DEPARTMENT OF HEALTH AND HUMAN SERVICES

National Institutes of Health

Center for Scientific Review; Amended Notice of Meeting

Notice is hereby given of a change in the meeting of the Surgery, Anesthesiology and Trauma Study Section, January 24, 2007, 8 a.m. to January 25, 2007, 5 p.m., Holiday Inn Georgetown, 2101 Wisconsin Avenue, NW., Washington, DC 20007 which was published in the Federal Register on December 5, 2006, 71 FR 70522-70523.

The meeting will be held January 24, 2007, 1 p.m. to January 25, 2007, 1 p.m. The meeting dates and location remain the same. The meeting is closed to the public.

Dated: January 3, 2007.
Anna Snouffer,
Acting Director, Office of Federal Advisory Committee Policy.

[FR Doc. 07-75 Filed 1-10-07; 8:45 am]

BILLING CODE 4140-01-M